OFFICE OF PERSONNEL MANAGEMENT

[OMB Control No. 3206-0245; RI 20-120]

Proposed Information Collection; Request for Comments on an Existing Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of an existing information collection. This information collection, “Request for Change to Unreduced Annuity” (OMB Control No. 3206-0245; Form RI 20-120), is designed to collect required information so that OPM may comply with the wishes of the retired Federal employee whose marriage has ended. This form will provide an organized way for the retiree to give us everything at one time.

Comments are particularly invited on: Whether this information is necessary for the proper performance of functions of the Office of Personnel Management, and whether it will have practical utility; whether our estimate of the public burden of this collection of information is accurate, and based on valid assumptions and methodology; and ways in which we can minimize the burden of the collection of information on those who are to respond, through the use of appropriate technological collection techniques or other forms of information technology.

There are approximately 5,000 requests annually. This form takes an average of 30 minutes per response to complete. The annual burden is estimated to be 2,500 hours.

For copies of this proposal, contact Cyrus S. Benson on (202) 606-4808, FAX (202) 606-0910 or via e-mail to Cyrus.Benson@opm.gov. Please include a mailing address with your request.

DATES: Comments on this proposal should be received within 60 calendar days from the date of this publication.

ADDRESSES: Send or deliver comments to: James K. Freiert, Deputy Assistant Director, Retirement Services Program, Center for Retirement and Insurance Services, U.S. Office of Personnel Management, 1900 E Street, NW., Room 3305, Washington, DC 20415-3500.

FOR FURTHER INFORMATION CONTACT: Cyrus S. Benson, Team Leader, Publications Team, RIS Support Services/Support Group, (202) 606-0623.

Kathie Ann Whipple,
Acting Director, U.S. Office of Personnel Management.

[FR Doc. E9-6928 Filed 3-27-09; 8:45 am]

BILLING CODE 6325-38-P